DEPARTMENT OF ENERGY

Federal Energy Regulatory Commission

Combined Notice of Filings

Take notice that the Commission has received the following Natural Gas Pipeline Rate and Refund Report filings:

Filings Instituting Proceedings

Docket Numbers: PR14-49-000.

Applicants: DCP Raptor Pipeline, LLC.

Description: DCP Raptor Pipeline, LLC submits tariff filing per 284.123(b)(2) +: Raptor Rate Case to be effective 9/1/2014.

Filed Date: 8/13/14.

Accession Number: 20140813-5063.

Comments Due: 5 p.m. ET 9/3/14.

284.123(g) Protests Due: 5 p.m. ET 10/14/14.

Docket Numbers: RP14-1185-000.

Applicants: Viking Gas Transmission Company.

Description: Petition of Viking Gas Transmission Company for Approval of Settlement.

Filed Date: 8/15/14.

Accession Number: 20140815-5174.

Comments Due: 5 p.m. ET 8/28/14.

Any person desiring to intervene or protest in any of the above proceedings must file in accordance with Rules 211 and 214 of the Commission's Regulations (18 CFR 385.211 and 385.214) on or before 5 p.m. Eastern time on the specified date(s). Protests may be considered, but intervention is necessary to become a party to the proceeding.

Filings in Existing Proceedings

Docket Numbers: RP11-1844-002.

Applicants: Rockies Express Pipeline LLC.

Description: Compliance to Settlement—Deferred Account.

Filed Date: 8/14/14.

Accession Number: 20140814-5115.

Comments Due: 5 p.m. ET 8/26/14.

Docket Numbers: RP14-685-002.

Applicants: Equitrans, L.P.

Description: Motion to Place IWS Tariff Records into Effect to be effective 8/16/2014.

Filed Date: 8/15/14.

Accession Number: 20140815-5058.

Comments Due: 5 p.m. ET 8/22/14.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2014.
Nathaniel J. Davis, Sr.,
Deputy Secretary.

[FR Doc. 2014-20095 Filed 8-22-14; 8:45 am]

BILLING CODE 6717-01-P